DEPARTMENT OF THE INTERIOR

National Park Service

[NPS-WASO-NAGPRA-NPS0039180; PPWOCRADN0-PCU00RP14.R50000]

Notice of Inventory Completion: U.S. Department of the Interior, National Park Service, Investigative Services Branch, Boulder City, NV

AGENCY: National Park Service, Interior.

ACTION: Notice.

SUMMARY: In accordance with the Native American Graves Protection and Repatriation Act (NAGPRA), the U.S. Department of the Interior, National Park Service, Investigative Services Branch (ISB) has completed an inventory of human remains and associated funerary objects and has determined that there is a cultural affiliation between the human remains and associated funerary objects and Indian Tribes or Native Hawaiian organizations in this notice.

DATES: Repatriation of the human remains and associated funerary objects in this notice may occur on or after January 13, 2025.

ADDRESSES: Brian Lake, Assistant Special Agent in Charge, Investigative Services Branch, 1400 Colorado Street, Suite C, Boulder City, NV 89005, telephone (702) 293-8732, email brian_lake@nps.gov.

SUPPLEMENTARY INFORMATION: This notice is published as part of the National Park Service's administrative responsibilities under NAGPRA. The determinations in this notice are the sole responsibility of the Assistant Special Agent in Charge, ISB, and additional information on the determinations in this notice, including the results of consultation, can be found in the inventory or related records.

Abstract of Information Available

Based on the information available, human remains representing, at least, one individual has been reasonably identified. The two associated funerary objects are one stone mortar base and one ground stone pestle. The human remains and associated funerary objects were removed from Contra Costa County, CA during a federal highway project in the early 1960s. The remains and cultural items were collected and removed from the site by a contractor and remained in the contractor's possession until his death, when they were passed to his descendant. In 2015 they were seized during a criminal investigation by the ISB. After seizure, the human remains were stored at Joshua Tree National Park until their transfer in March of 2022 to the curatorial facility at Lake Mead National Recreation Area. Cultural affiliation was determined based on anthropological, historical, geographic, and Native American traditional knowledge. These human remains and cultural items have not been treated with hazardous substances.

Cultural Affiliation

Based on the information available and the results of consultation, cultural affiliation is clearly identified by the information available about the human remains and associated funerary objects described in this notice.

Determinations

ISB has determined that:

• The human remains described in this notice represent the physical remains of one individual of Native American ancestry.

• The two objects described in this notice are reasonably believed to have been placed intentionally with or near individual human remains at the time of death or later as part of the death rite or ceremony.

• There is a reasonable connection between the human remains and associated funerary objects described in this notice and the Wilton Rancheria, California.

Requests for Repatriation

Written requests for repatriation of the human remains and associated funerary objects in this notice must be sent to the authorized representative identified in this notice under ADDRESSES. Requests for repatriation may be submitted by:

1. Any one or more of the Indian Tribes or Native Hawaiian organizations identified in this notice and, if joined to a request from one or more of the Indian Tribes, the North Valley Yokuts Tribe, a non-federally recognized Indian group.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 13, 2025. If competing requests for repatriation are received, ISB must determine the most appropriate requestor prior to repatriation. Requests for joint repatriation of the human remains and associated funerary objects are considered a single request and not competing requests. ISB is responsible for sending a copy of this notice to the Indian Tribes and Native Hawaiian organizations identified in this notice.

Authority: Native American Graves Protection and Repatriation Act, 25 U.S.C. 3003, and the implementing regulations, 43 CFR 10.10.

Dated: December 4, 2024.
Melanie O'Brien,
Manager, National NAGPRA Program.

[FR Doc. 2024-29256 Filed 12-11-24; 8:45 am]

BILLING CODE 4312-52-P